DEPARTMENT OF TRANSPORTATION

Federal Aviation Administration

14 CFR Part 39

[Docket No. FAA-2005-22109; Directorate Identifier 2005-NE-32-AD; Amendment 39-14557; AD 2006-08-03]

RIN 2120-AA64

Airworthiness Directives; Sicma Aero Seat (Formerly Farner); Cabin Attendant Seats Series 150 Type FN and Series 151 Type WN

AGENCY: Federal Aviation Administration (FAA), Department of Transportation (DOT).

ACTION: Final rule.

SUMMARY: The FAA is adopting a new airworthiness directive (AD) for Sicma Aero Seat (formerly Farner) cabin attendant seats series 150 type FN and series 151 type WN. This AD requires installing two protection fairings over the upper seat structure to cover the gap between the upper and lower seats and prevent any contact with the bottom seat folding mechanisms. This AD results from a child catching its fingers in the folding mechanism of the bottom of the attendant seat. We are issuing this AD to prevent injury resulting from contact with the bottom folding mechanism.

DATES: This AD becomes effective May 18, 2006. The Director of the Federal Register approved the incorporation by reference of certain publications listed in the regulations as of May 18, 2006.

ADDRESSES: You can get the service information identified in this AD from Sicma Aero Seat, 7 Rue Lucien Coupet, 36100 Issoudun, France; telephone 33 (0) 2 54 03 39 39, fax 33 (0) 2 54 03 15 16.

You may examine the AD docket on the Internet at http://dms.dot.gov or in Room PL-401 on the plaza level of the Nassif Building, 400 Seventh Street, SW., Washington, DC.

FOR FURTHER INFORMATION CONTACT: Jeffrey Lee, Aerospace Engineer, Boston Aircraft Certification Office, Engine and Propeller Directorate, FAA, 12 New England Executive Park, Burlington, MA 01803; telephone (781) 238-7161; fax (781) 238-7170.

SUPPLEMENTARY INFORMATION: The FAA proposed to amend 14 CFR part 39 with a proposed airworthiness directive (AD). The proposed AD applies to Sicma Aero Seat (formerly Farner) cabin attendant seats series 150 type FN and series 151 type WN. We published the proposed AD in the Federal Register on October 4, 2005 (70 FR 57804). That action proposed to require installing two protection fairings over the upper seat structure to cover the gap between the upper and lower seats and prevent any contact with the bottom seat folding mechanisms.

Examining the AD Docket

You may examine the docket that contains the AD, any comments received, and any final disposition in person at the Docket Management Facility Docket Office between 9 a.m. and 5 p.m., Monday through Friday, except Federal holidays. The Docket Office (telephone (800) 647-5227) is located on the plaza level of the Department of Transportation Nassif Building at the street address stated in ADDRESSES. Comments will be available in the AD docket shortly after the DMS receives them.

Comments

We provided the public the opportunity to participate in the development of this AD. We received no comments on the proposal or on the determination of the cost to the public.

Conclusion

We have carefully reviewed the available data and determined that air safety and the public interest require adopting the AD as proposed.

Costs of Compliance

There are about 5,584 Sicma Aero Seat (formerly Farner) cabin attendant seats, series 150 type FN and 151 type WN of the affected design installed on 698 airplanes of U.S. registry. We estimate that it will take about 3 work hours per airplane to perform the actions, and that the average labor rate is $65 per work hour. Sicma has advised us that they will supply the modification kits at no cost. Based on the labor rate to install the kits, the total cost of the AD to U.S. operators will be $136,110.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a summary of the costs to comply with this AD and placed it in the AD Docket. You may get a copy of this summary at the address listed under ADDRESSES.

List of Subjects in 14 CFR Part 39

Air transportation, Aircraft, Aviation safety, Incorporation by reference, Safety.

Adoption of the Amendment

Accordingly, under the authority delegated to me by the Administrator, the Federal Aviation Administration amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2006-08-03 Sicma Aero Seat (formerly Farner): Amendment 39-14557. Docket No. FAA-2005-22109; Directorate Identifier 2005-NE-32-AD.

Effective Date

(a) This airworthiness directive (AD) becomes effective May 18, 2006.

Affected ADs

(b) None.

Applicability

(c) This AD applies to Sicma Aero Seat (formerly Farner) cabin attendant seats series 150 type FN and 151 type WN, all part and serial numbers. These attendant seats are installed on, but not limited to, Airbus A319, A320, and A321 series airplanes.

Unsafe Condition

(d) This AD results from a child catching its fingers in the folding mechanism of the bottom of the attendant seat. We are issuing this AD to prevent injury resulting from contact with the bottom folding mechanism.

Compliance

(e) You are responsible for having the actions required by this AD performed within the compliance times specified unless the actions have already been done.

Installing Protective Fairings

(f) Within 90 days after the effective date of this AD, install two protective fairings, part number (P/N) 160100-49, on each affected cabin attendant seat. Use the instructions in paragraph 2 of Sicma Aero Seat Service Bulletin 150-25-036, Issue 1, dated February 10, 1999, and Sicma Aero Seat Service Bulletin 151-25-037, Issue 1, dated February 10, 1999.

(g) After installing the fairings, add or complete a modification placard, part number (P/N) 00-5179, indicating that the service bulletin has been completed. Use the instructions in paragraph 3 of Sicma Aero Seat Service Bulletin 150-25-036, Issue 1, dated February 10, 1999, and Sicma Aero Seat Service Bulletin 151-25-037, Issue 1, dated February 10, 1999.

Alternative Methods of Compliance

(h) The Manager, Boston Aircraft Certification Office, has the authority to approve alternative methods of compliance for this AD if requested using the procedures found in 14 CFR 39.19.

Related Information

(i) Direction Generale de L'Aviation Civile airworthiness directive 1999-004 (AB), dated January 13, 1999, also addresses the subject of this AD.

Material Incorporated by Reference

(j) You must use the Sicma Aero Seat Service Bulletins specified in Table 1 to perform the installations required by this AD. The Director of the Federal Register approved the incorporation by reference of the documents listed in Table 1 of this AD in accordance with 5 U.S.C. 552(a) and 1 CFR part 51. Contact Sicma Aero Seat, 7 Rue Lucien Coupet, 36100 Issoudun, France; telephone 33 (0) 2 54 03 39 39, fax 33 (0) 2 54 03 15 16 for a copy of this service information. You may review copies at the Docket Management Facility; U.S. Department of Transportation, 400 Seventh Street, SW., Nassif Building, Room PL-401, Washington, DC 20590-0001, on the internet at http://dms.dot.gov, or at the National Archives and Records Administration (NARA). For information on the availability of this material at NARA, call 202-741-6030, or go to: http://www.archives.gov/federal-register/cfr/ibr-locations.html.

Table 1.—Incorporation by Reference
Service bulletin No. | Page | Issue | Date
150-25-036 | ALL | 1 | February 10, 1999.
Total Pages: 8
151-25-037 | ALL | 1 | February 10, 1999.
Total Pages: 8

Issued in Burlington, Massachusetts, on April 5, 2006.
Peter A. White,
Acting Manager, Engine and Propeller Directorate, Aircraft Certification Service.

[FR Doc. 06-3479 Filed 4-12-06; 8:45 am]

BILLING CODE 4910-13-P